DEPARTMENT OF COMMERCE

International Trade Administration

[Docket No. 251125-0175]

Request for Information; Extension of Comment Period

AGENCY: International Trade Administration, U.S. Department of Commerce.

ACTION: Request for information; extension of comment period.

SUMMARY: On October 28, 2025, the U.S. Department of Commerce (Department) published in the Federal Register a request for information (RFI) to solicit public comment on questions relating to the American AI Exports Program (Program). Through that RFI, the Department is seeking information from the public on the request for proposals that the Department will issue pursuant to Executive Order (E.O.) 14320, “Promoting the Export of the American AI Technology Stack.” The Department has determined that an extension of the comment period until December 13, 2025 is appropriate.

DATES: The public comment period for the Request for Information published on October 28, 2025 (90 FR 48726), is extended from November 28, 2025, to December 13, 2025.

ADDRESSES: All electronic public comments on this action, identified by Regulations.gov docket number ITA-2025-0070, may be submitted through the Federal e-rulemaking Portal at https://www.regulations.gov, as well as https://aiexports.gov. Response to this RFI is voluntary; you can choose to respond to all or some of the questions. Each individual or institution is requested to submit only one response. Submissions should be made in 12 point or larger font, with a page number provided on each page. All submissions should be captioned with “American AI Exports Program Comments.” Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to view business confidential information.

Please note that the U.S. Government will not pay for response preparation, or for the use of any information contained in the response. A response to this RFI will not be viewed as a binding commitment to develop or pursue the project or ideas discussed.

FOR FURTHER INFORMATION CONTACT: Emily Davis, Director for Public Affairs, International Trade Administration, U.S. Department of Commerce, 202-482-3809, Emily.Davis@trade.gov.

SUPPLEMENTARY INFORMATION: On October 28, 2025, the Department published in the Federal Register its RFI to inform the request for proposals that the Department will issue for the Program pursuant to E.O. 14320. The RFI seeks information from the public relating to the AI technology stack, consortia membership and formation, foreign markets, proposals' business and operational models, federal support for consortia, national security regulations, and proposal evaluation. The Department received feedback from multiple sources regarding the challenging timing of the RFI. In response to this feedback, and to ensure increased access and ability to respond to the RFI, the Department has decided to extend the RFI's comment period to December 13, 2025. The Department refers readers to the October 28, 2025, Federal Register notice (90 FR 48726) for background information concerning the RFI for the American AI Exports Program.

Darren Remington,
Deputy Under Secretary for International Trade, United States Department of Commerce.

[FR Doc. 2025-21722 Filed 11-28-25; 8:45 am]

BILLING CODE 3510-DR-P